DEPARTMENT OF COMMERCE

International Trade Administration

[A-533-824]

Polyethylene Terephthalate Film, Sheet, and Strip From India: Final Results of Antidumping Duty Administrative Review; 2017-2018; Correction

AGENCY: Enforcement and Compliance, International Trade Administration, Department of Commerce.

SUMMARY: The U.S. Department of Commerce (Commerce) published a notice in the Federal Register on March 16, 2020, in which commerce announced the final results of the 2017-2018 administrative review of the antidumping duty (AD) order on polyethylene terephthalate film, sheet, and strip from India. In this notice, the section titled “Final Results of Review” did not list both SRF Limited and SRF Limited of India.

FOR FURTHER INFORMATION CONTACT: Jacqueline Arrowsmith, AD/CVD Operations, Office VII, U.S. Department of Commerce, 1401 Constitution Avenue NW, Washington, DC 20230; telephone: (202) 482-5255.

SUPPLEMENTARY INFORMATION:

Correction

In the Federal Register of March 16, 2020, in FR Doc. 2020-05311, on page 14884, in the second column, correct the table within the “Final Results of Review” section to list both SRF Limited and SRF Limited of India.

Background

On March 16, 2020, Commerce published in the Federal Register the final results of the 2017-2018 administrative review of the AD order on polyethylene terephthalate film, sheet, and strip from India.¹ We erroneously omitted SRF Limited from the table where we listed SRF Limited of India.² With the publication of this notice, we will assign both SRF Limited and SRF Limited of India the weighted-average dumping margin of 0.00 percent.³ See the updated “Final Results of Review” section below.

¹ See Polyethylene Terephthalate Film, Sheet, and Strip from India: Final Results of Antidumping Duty Administrative Review; 2017-2018, 85 FR 14883 (March 16, 2020).

² Id.

³ SRF Limited of India and SRF Limited are the same company. See Polyethylene Terephthalate Film, Sheet, and Strip from India: Preliminary Results and Partial Rescission of Antidumping Duty Administrative Review; 2017-2018, 84 FR 48123 (September 12, 2019), and accompanying Preliminary Decision Memorandum at 6.

Final Results of Review

As a result of this review, we determine the following weighted-average dumping margins exist for the period July 1, 2017 through June 30, 2018.

Manufacturer/exporter | Weighted- average margin (percent)
Jindal Poly Films Ltd. (India) | 4.45
SRF Limited/SRF Limited of India | 0.00
Ester Industries Limited | 4.45
Garware Polyester Ltd | 4.45
Polyplex Corporation Ltd | 4.45
Vacmet India Limited | 4.45

Notification to Interested Parties

This notice is issued and published in accordance with sections 751(a)(1) and 777(i)(1) of the Tariff Act of 1930, as amended.

Dated: December 13, 2023.
Abdelali Elouaradia,
Deputy Assistant Secretary for Enforcement and Compliance.

[FR Doc. 2023-27841 Filed 12-18-23; 8:45 am]

BILLING CODE 3510-DS-P